DEPARTMENT OF COMMERCE

National Institute of Standards and Technology

Visiting Committee on Advanced Technology

AGENCY: National Institute of Standards and Technology, Department of Commerce.

ACTION: Notice of Partially Closed Meeting.

SUMMARY: The Visiting Committee on Advanced Technology (VCAT), National Institute of Standards and Technology (NIST), will meet Tuesday, June 8, 2010, from 8:30 a.m. to 5 p.m. and Wednesday, June 9, 2010, from 8:30 a.m. to 3 p.m. The Visiting Committee on Advanced Technology is composed of fifteen members appointed by the Director of NIST who are eminent in such fields as business, research, new product development, engineering, labor, education, management consulting, environment, and international relations.

DATES: The VCAT will meet on Tuesday, June 8, 2010 from 8:30 to 5 p.m. and Wednesday, June 9, 2010, from 8:30 a.m. to 3 p.m. The portion of the meeting that is closed to the public will take place on Tuesday, June 8, 2010 from 3 p.m. to 5 p.m.

ADDRESSES: The meeting will be held in the Portrait Room, Administration Building, at NIST, Gaithersburg, Maryland. The rooms for the Working Groups will be announced at the meeting. Please note admittance instructions under the SUPPLEMENTARY INFORMATION section of this notice.

FOR FURTHER INFORMATION CONTACT: Stephanie Shaw, Visiting Committee on Advanced Technology, National Institute of Standards and Technology, Gaithersburg, Maryland 20899-1060, telephone number (301) 975-2667. Ms. Shaw's email address is stephanie.shaw@nist.gov.

SUPPLEMENTARY INFORMATION: The purpose of this meeting is to review and make recommendations regarding general policy for the Institute, its organization, its budget, and its programs within the framework of applicable national policies as set forth by the President and the Congress. The first day's agenda will include an update on NIST; presentations on NIST progress in documentary standards for Smart Grid Interoperability, Healthcare Information Technology, and Cybersecurity as well as an overview of the National Science and Technology Council Subcommittee on Standards; and overviews of NIST's external needs assessment workshops in the areas of advanced photovoltaics and greenhouse gas emissions. During a closed session on June 8 from 3 p.m. until 5 p.m., the VCAT will discuss sensitive planning information about NIST programs. On the second day, the meeting will focus on strengthening NIST mission through optimization of NIST's measurement services with an overview of the agency's measurement services, external perspectives from guest speakers on the impacts and issues related to these services, and a presentation on the integration of measurement services to NIST research programs. The agenda may change to accommodate Committee business. The final agenda will be posted on the NIST Web site at http://www.nist.gov/director/vcat/agenda.htm.

The Assistant Secretary for Administration, with the concurrence of the General Counsel, formally determined on May 17, 2010, that portions of the meeting of the VCAT that involve discussions regarding information the premature disclosure of which would be likely to significantly frustrate implementation of a proposed agency action may be closed in accordance with 5 U.S.C. 552b(c)(9)(B). The closed portion of the meeting is scheduled to begin at 3 p.m. and to end at 5 p.m. on June 8, 2010. All other portions of the meeting will be open to the public.

Individuals and representatives of organizations who would like to offer comments and suggestions related to the Committee's affairs are invited to request a place on the agenda. On June 8, 2010, approximately one-half hour will be reserved in the afternoon for public comments, and speaking times will be assigned on a first-come, first-serve basis. The amount of time per speaker will be determined by the number of requests received, but is likely to be about 3 minutes each. The exact time for public comments will be included in the final agenda that will be posted on the NIST Web site at http://www.nist.gov/director/vcat/agenda.htm. Questions from the public will not be considered during this period. Speakers who wish to expand upon their oral statements, those who had wished to speak but could not be accommodated on the agenda, and those who were unable to attend in person are invited to submit written statements to the VCAT, National Institute of Standards and Technology, 100 Bureau Drive, MS 1060, Gaithersburg, Maryland, 20899, via fax at 301-216-0529 or electronically by e-mail to gail.ehrlich@nist.gov.

All visitors to the NIST site will have to pre-register to be admitted. Please submit your name, time of arrival, email address and phone number to Stephanie Shaw no later than Friday, June 4, 2010, and she will provide you with instructions for admittance. Ms. Shaw's e-mail address is stephanie.shaw@nist.gov and her phone number is (301) 975-2667.

Dated: May 19, 2010.
Katharine Gebbie,
Director, Physics Laboratory.

[FR Doc. 2010-12411 Filed 5-21-10; 8:45 am]

BILLING CODE 3510-13-P